SMALL BUSINESS ADMINISTRATION

[Disaster Declaration #12580 and #12581]

Mississippi Disaster Number MS-00048

AGENCY: U.S. Small Business Administration.

ACTION: ACTION:

Amendment 1.

SUMMARY: This is an amendment of the Presidential declaration of a major disaster for the State of Mississippi (FEMA-1983-DR), dated 05/11/2011.

Incident: Flooding.

Incident Period: 05/03/2011 through 06/17/2011.

Effective Date: 06/17/2011.

Physical Loan Application Deadline Date: 07/11/2011.

EIDL Loan Application Deadline Date: 02/13/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Mississippi, dated 05/11/2011 is hereby amended to establish the incident period for this disaster as beginning 05/03/2011 and continuing through 06/17/2011 .

All other information in the original declaration remains unchanged.

(Catalog of Federal Domestic Assistance Numbers 59002 and 59008)

James E. Rivera,
Associate Administrator for Disaster Assistance.

[FR Doc. 2011-16044 Filed 6-24-11; 8:45 am]

BILLING CODE 8025-01-P